FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 25, 2019.

A. Federal Reserve Bank of Minneapolis (Mark A. Rauzi, Vice President), 90 Hennepin Avenue, Minneapolis, Minnesota 55480-0291:

1. Hayes Holdings Trust, Fort Pierre, South Dakota, Stephen K. Hayes, Presho, South Dakota, as trustee, to join the Stephen K. Hayes group acting in concert; to acquire voting shares of Draper Holding Company, Inc., and thereby indirectly acquire shares of Dakota Prairie Bank, both of Fort Pierre, South Dakota.

Board of Governors of the Federal Reserve System, June 4, 2019.
Yao-Chin Chao,
Assistant Secretary of the Board.

[FR Doc. 2019-12057 Filed 6-6-19; 8:45 am]

BILLING CODE 6210-01-P